DEPARTMENT OF THE INTERIOR

Bureau of Indian Affairs

Request for Projects Using the $18.3 Million Fiscal Year 2000 Indian Reservation Roads Funds

AGENCY: Bureau of Indian Affairs, Interior.

ACTION: Request for applications and scope of work.

SUMMARY: The Department of Transportation Appropriations Act for FY 2000 provided an additional $18.3 million for the Indian Reservation Roads (IRR) Program. Based on input from the Transportation Equity Act for the 21st Century (TEA-21) Negotiated Rulemaking Committee, we are requesting applications and scopes of work for IRR projects for the distribution of these additional funds. We will distribute the funds to federally-recognized Indian Tribes and Alaskan Native Villages based on a timely receipt of applications and scopes of work who have not completed adequate transportation planning within the last 5 years or that have deficient IRR bridges.

DATES: Applications and scopes of work supporting request for funding for projects must be postmarked by April 6, 2000.

ADDRESSES: You may submit applications including the scope of work to: LeRoy Gishi, Chief, Division of Transportation, Office of Trust Responsibilities, Bureau of Indian Affairs, 1849 C Street, NW, MS-4058-MIB, Washington, DC 20240. Mr. Gishi may also be reached at 202-208-4359 (phone), 202-208-4696 (fax), or leroygishi@bia.gov (electronic mail).

FOR FURTHER INFORMATION CONTACT: LeRoy Gishi, 202-208-4359.

SUPPLEMENTARY INFORMATION:

Background

The Department of Transportation Appropriations Act for FY 2000, Public Law 106-96, provided $18.3 million for the IRR program. These IRR program funds are in addition to those provided in the Transportation Equity Act for the 21st Century (TEA-21) and are only provided for this fiscal year.

There is an immediate and critical need to use these additional funds in support of transportation planning and infrastructure for Indian Tribes and Alaskan Native Villages. IRR are typically among the most poorly maintained roads in the nation, in great need of development and repair. This creates great difficulty in meeting everyday needs, such as getting students to school and access to medical and emergency treatment, as well as economic and community development.

In consultation with the TEA-21 Negotiated Rulemaking Committee, we have developed the procedures for distribution of these IRR funds this fiscal year.

What Comments on Funds Distribution Did You Receive?

In a January 26, 2000 letter from the Tribal Co-Chairs of the TEA-21 Negotiated Rulemaking Committee, we received comments on consensus reached by 25 tribal delegates and alternates. This letter delineated, from a tribal perspective, how the $18.3 million should be distributed to Indian Tribes and Alaskan Native Villages in support of the IRR program.

What Is the Purpose of This Action?

The purpose of this action is to prescribe the policies and procedures for making applications and distributing these additional IRR program funds for FY 2000.

What Is the IRR Program?

The IRR program is jointly administered by the Bureau of Indian Affairs (BIA) and the Federal Lands Highway (FLH) of the Federal Highway Administration (FHWA). The IRR program governs the planning, design, construction and general administrative responsibility for IRR. The duties of each agency under the IRR program are set forth in a Memorandum of Agreement and the IRR Program Stewardship Plan between the two agencies. In general, BIA works with Indian tribal governments and tribal organizations to develop Transportation Improvement Programs which are submitted to FLH for review and approval. Each fiscal year FLH determines the amount of funds available for the IRR program. Then, FLH and BIA develop an IRR program funding plan for the fiscal year. Funds are allocated from FLH to BIA and distributed by the Secretary of the Interior (Secretary) for IRR projects on or near Indian reservations.

What Are the Additional FY 2000 IRR Funds?

These additional IRR program funds are provided as part of the Department of Transportation and Related Agencies Appropriations Act for FY 2000, Public Law 106-69. These funds are not part of other funding as authorized in 23 U.S.C. 204 or as distributed under 25 CFR 170.4b (65 FR 7431, Feb. 15, 2000).

How Long Will These Funds Be Available?

These funds are available for this fiscal year only. Any unobligated funds will expire at the end of the fiscal year.

What Are the Restrictions on These Funds?

The Secretary is asking for proposals from all federally-recognized Indian Tribes and Alaska Native Villages for transportation planning and bridge design projects. Priority consideration will be given to those Indian Tribes and Alaska Native Villages which have not completed an adequate transportation plan within the last 5 years or that have deficient IRR bridges.

Who May Apply for the Additional FY 2000 IRR Funds?

You may apply for the additional FY 2000 IRR funds if you meet any of the following criteria:

(1) You are a federally-recognized Indian Tribe or Alaska Native Village;

(2) You have not developed an adequate transportation plan in the last 5 years;

(3) You have a deficient IRR bridge which needs to be designed for either rehabilitation or replacement; or

(4) You are a BIA Regional office that has a direct service tribe within your region that meets the criteria in (1), (2) or (3) above.

What Is Transportation Planning?

Transportation planning is the development of strategies for the design, construction, operation, and maintenance of transportation facilities for moving people and goods in a village, town, pueblo, rancheria, city, borough, county, township, parish, metropolitan area, Indian reservation, State, multi-State region, or country. The transportation planning process is a continuing and comprehensive analysis to the degree appropriate and is based on the complexity of the transportation needs. Transportation planning considers both the physical and financial needs to develop an adequate transportation system, the identification and inventory of the existing and proposed transportation system, and the identification of the transportation system's owners and users.

How Do I Determine if I Have Not Had Adequate Transportation Planning in the Last 5 Years?

Your transportation planning has been inadequate if you have not developed an approved tribal Transportation Improvement Program (TIP) which is a multi-year list of IRR transportation projects, or your TIP is obsolete and does not reflect your current transportation project needs.

What Are the Criteria for Bridge Eligibility?

To be eligible to receive funding, a bridge must:

(1) have an opening of 20 feet or more;

(2) be on an IRR road;

(3) be unsafe because of structural deficiencies, physical deterioration or functional obsolescence; and

(4) be recorded in the National Bridge Inventory (NBI) maintained by the FHWA.

Bridges that were constructed, rehabilitated or replaced in the last 10 years are eligible for seismic retrofit or installation of scour countermeasures.

How Do I Apply for the Additional FY 2000 IRR Funds?

Applicants must submit all of the following to be considered for these funds:

(1) A letter of application.

(2) A scope of work for the transportation planning activity in accordance with the current IRR Transportation Planning Procedures and Guidelines. The complete document can be found on the World Wide Web (www.fhwa.dot.gov/flh/reports/indian/intro.htm).

(3) A scope of work for the engineering design of the eligible deficient bridge (a list of the eligible deficient bridges is available at the BIA Regional office). If more than one deficient IRR bridge exists, the scope of work for more than one bridge will be considered.

What Are the Funding Limits for Either Transportation Planning or Bridge Design Activity?

The cost associated with transportation planning or bridge design activity cannot exceed $50,000 per project per tribe.

When Must Applications Be Submitted?

Each eligible applicant must submit an application and scope of work to the address in the ADDRESSES section in this notice by April 6, 2000 identifying each transportation planning or bridge design activity to be completed and its cost.

What Will Happen to Funds Not Distributed as Part of the Application Process and Requests for Funds Above?

The Secretary will distribute the remaining funds not distributed or not obligated as described above in the same manner as the FY2000 IRR funding, by the Relative Need Formula, as described at 65 FR 7431 (Feb. 15, 2000).

Dated: March 1, 2000.
Kevin Gover,
Assistant Secretary—Indian Affairs.

[FR Doc. 00-5405 Filed 3-6-00; 8:45 am]

BILLING CODE 4310-02-P